DEPARTMENT OF JUSTICE

Parole Commission

Public Announcement Pursuant to the Government in the Sunshine Act (Public Law 94-409, 5 U.S.C. 552b)

AGENCY: Department of Justice, United States Parole Commission.

Date and Time: 10:30 a.m., Thursday, December 11, 2003.

Place: U.S.Parole Commission, 5550 Friendship Boulevard, 4th Floor, Chevy Chase, Maryland 20815.

Status: Closed—Meeting.

Matters to be Considered: The following matter will be considered during the closed portion of the Commission's Business Meeting:

Appeals to the Commission involving approximately one case decided by the National Commissioners pursuant to reference under 28 CFR 2.27. This case was originally heard by an examiner panel wherein inmates of Federal prisons have applied for parole and are contesting revocation of parole or mandatory release.

FOR FURTHER INFORMATION CONTACT: Thomas W. Hutchison, Chief of Staff, United States Parole Commission, (301) 492-5990.

Dated: December 4, 2003.
Rockne Chickinell,
General Counsel.

[FR Doc. 03-30581 Filed 12-5-03; 10:44 am]

BILLING CODE 4410-31-M